DEPARTMENT OF ENERGY

Federal Energy Regulatory Commission

[Docket No. RP03-617-001]

Colorado Interstate Gas Company; Notice of Compliance Filing

January 2, 2004.

Take notice that on December 19, 2003, Colorado Interstate Gas Company (CIG) tendered for filing as part of its FERC Gas Tariff, First Revised Volume No. 1, the following tariff sheets, with an effective date of January 1, 2004:

Tenth Revised Sheet No. 1

Second Revised Sheet No.11J

CIG states that it is also filing a firm transportation agreement. CIG states that the tariff sheet update the list of non-conforming agreements and implement a new negotiated rate transaction in compliance with the Commission's Order issued October 24, 2003 in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's web site under the e-Filing link.

Linda Mitry,
Acting Secretary.

[FR Doc. E4-21 Filed 1-9-04; 8:45 am]

BILLING CODE 6717-01-P